DEPARTMENT OF THE TREASURY

Internal Revenue Service

26 CFR Part 1

[TD 9272]

RIN 1545-BE81

REMIC Residual Interests-Accounting for REMIC Net Income (Including Any Excess Inclusions) (Foreign Holders); Correction

AGENCY: Internal Revenue Service (IRS), Treasury.

ACTION: Correction to final regulations.

SUMMARY: This document contains corrections to final regulations (TD 9272) that were published in the Federal Register on Tuesday, August 1, 2006 (71 FR 43363) relating to income that is associated with a residual interest in a Real Estate Mortgage Investment Conduit (REMIC) and that is allocated through certain entities to foreign persons who have invested in those entities.

DATES: These corrections are effective August 1, 2006.

FOR FURTHER INFORMATION CONTACT: Dale Collinson, (202) 622-3900 (not a toll-free number).

SUPPLEMENTARY INFORMATION:

Background

The correction notice that is the subject of this document is under sections 860A, 860G(b), 863, 1441, and 1442 of the Internal Revenue Code.

Need for Correction

As published, final regulations (TD 9272) contain errors that may prove to be misleading and are in need of clarification.

Correction of Publication

Accordingly, the publication of the final regulations (TD 9272), which was the subject of FR Doc. E6-12363, is corrected as follows:

1. On page 43364, column 1, in the preamble, under the paragraph heading “Background and Explanation of Provisions”, first full paragraph of the column, line 6, the language “furtherance of the congressional” is corrected to read “furtherance of the Congressional”.

2. On page 43365, column 1, in the preamble, under the paragraph heading “Special Analyses”, line 5 from bottom of the paragraph, the language “Code, these temporary regulations will” is corrected to read “the Code, these temporary regulations will”.

LaNita Van Dyke,
Acting Chief, Publications and Regulations Branch, Legal Processing Division, Associate Chief Counsel (Procedure and Administration).

[FR Doc. E6-14000 Filed 8-23-06; 8:45 am]

BILLING CODE 4830-01-P